DEPARTMENT OF AGRICULTURE

Food and Nutrition Service

7 CFR Parts 210 and 220

RIN 0584-AE81

Child Nutrition Programs: Transitional Standards for Milk, Whole Grains, and Sodium; Correction

AGENCY: Food and Nutrition Service (FNS), USDA.

ACTION: Final rule; technical corrections.

SUMMARY: The Food and Nutrition Service (FNS) is correcting a final rule with request for comments that appeared in the Federal Register on February 7, 2022 and went into effect in the Code of Federal Regulations (CFR) on July 1, 2022. The rule established Child Nutrition Program transitional standards for milk, whole grains, and sodium for school years 2022-23 and 2023-24.

DATE: Effective August 25, 2022, and applicable beginning July 1, 2022.

FOR FURTHER INFORMATION CONTACT: Tina Namian, Director, School Meals Policy Division—4th Floor, Food and Nutrition Service, 1320 Braddock Place, Alexandria, VA 22314; telephone: 703-305-2590.

SUPPLEMENTARY INFORMATION: The final rule that appeared in the Federal Register on February 7, 2022, had several typographical errors included in both the National School Lunch Program and the School Breakfast Program meal pattern charts which were corrected on August 3, 2022. The corrected breakfast meal pattern chart from the August 3rd correction introduced one additional typographical error found at 7 CFR 220.8(c), in the row labeled, “Grains (oz eq)ᵈ” under the heading, “Grades 9-12” where the minimum per day in parenthesis was printed as, “2” when it should have been printed as, “1”. The August 3, 2022, correction also inadvertently removed the heading from the table in the introductory text of paragraph in 7 CFR 210.10. This document corrects both errors.

List of Subjects

7 CFR Part 210

Grant programs, Infants and children, Nutrition, Penalties, Reporting and recordkeeping requirements, School breakfast and lunch programs, Surplus agricultural commodities.

7 CFR Part 220

Grant programs—education, Grant programs—health, Infants and children, Nutrition, Reporting and recordkeeping requirements, School breakfast and lunch programs.

Accordingly, for reasons stated in the preamble, FNS amends 7 CFR parts 210 and 220 by making the following technical corrections:

PART 210—NATIONAL SCHOOL LUNCH PROGRAM

1. The authority citation for part 210 continues to read as follows:

Authority: 42 U.S.C. 1751-1760, 1779.

2. In § 210.10 amend paragraph (c) introductory text by adding a heading to the table to read as follows:

§ 210.10 Meal requirements for lunches and requirements for afterschool snacks.

* * * * *

(c) * * *

Table 1 to Paragraph (c) Introductory Text—Lunch Meal Pattern

* * * * *

PART 220—SCHOOL BREAKFAST PROGRAM

3. The authority citation for part 220 continues to read as follows:

Authority: (42 U.S.C. 1773, 1779, unless otherwise noted.)

4. Amend § 220.8 by revising the table in paragraph (c) introductory text to read as follows:

§ 220.8 Meal Requirements for Breakfast

* * * * *

(c) * * *

Table 1 to Paragraph (c) Introductory Text—Breakfast Meal Pattern
| Breakfast meal pattern: Grades K-5 | Breakfast meal pattern: Grades 6-8 | Breakfast meal pattern: Grades 9-12
Food Components | Amount of Food ᵃ per Week
| (minimum per day)
Fruits (cups) ᵇ ᶜ | 5 (1) | 5 (1) | 5 (1)
Vegetables (cups) ᵇ ᶜ | 0 | 0 | 0
Dark green | 0 | 0 | 0
Red/Orange | 0 | 0 | 0
Beans and peas (legumes) | 0 | 0 | 0
Starchy | 0 | 0 | 0
Other | 0 | 0 | 0
Grains (oz eq) ᵈ | 7-10 (1) | 8-10 (1) | 9-10 (1)
Meats/Meat Alternates (oz eq) ᵉ | 0 | 0 | 0
Fluid milk (cups) ᶠ | 5 (1) | 5 (1) | 5 (1)
Other Specifications: Daily Amount Based on the Average for a 5-Day Week
Min-max calories (kcal) ᵍ ʰ | 350-500 | 400-550 | 450-600
Saturated fat (% of total calories) ʰ | <10 | <10 | <10
Sodium Target 1 (mg) ʰ | ≤540 | ≤600 | ≤640
Trans fat ʰ | Nutrition label or manufacturer specifications must indicate zero grams of trans fat per serving.
ᵃ Food items included in each group and subgroup and amount equivalents. Minimum creditable serving is ⅛ cup.
ᵇ One-quarter cup of dried fruit counts as ½ cup of fruit; 1 cup of leafy greens counts as ½ cup of vegetables. No more than half of the fruit or vegetable offerings may be in the form of juice. All juice must be 100% full-strength.
ᶜ Schools must offer 1 cup of fruit daily and 5 cups of fruit weekly. Vegetables may be substituted for fruits, but the first two cups per week of any such substitution must be from the dark green, red/orange, beans/peas (legumes), or “Other vegetables” subgroups, as defined in § 210.10(c)(2)(iii) of this chapter.
ᵈ At least 80 percent of grains offered weekly must meet the whole grain-rich criteria specified in FNS guidance, and the remaining grain items offered must be enriched. Schools may substitute 1 oz. eq. of meat/meat alternate for 1 oz. eq. of grains after the minimum daily grains requirement is met.
ᵉ There is no meat/meat alternate requirement.
ᶠ All fluid milk must be fat-free (skim) or low-fat (1 percent fat or less). Milk may be unflavored or flavored, provided that unflavored milk is offered at each meal service.
ᵍ The average daily calories for a 5-day school week must be within the range (at least the minimum and no more than the maximum values).
ʰ Discretionary sources of calories (solid fats and added sugars) may be added to the meal pattern if within the specifications for calories, saturated fat, trans fat, and sodium. Foods of minimal nutritional value and fluid milk with fat content greater than 1 percent milk fat are not allowed.

* * * * *

Tameka Owens,
Assistant Administrator, Food and Nutrition Service.

[FR Doc. 2022-18220 Filed 8-24-22; 8:45 am]

BILLING CODE 3410-30-P